DEPARTMENT OF COMMERCE

National Oceanic and Atmospheric Administration

[I.D. 081705A]

Gulf of Mexico Fishery Management Council; Public Hearings

AGENCY: National Marine Fisheries Service (NMFS), National Oceanic and Atmospheric Administration (NOAA), Commerce.

ACTION: Notice of a public hearing.

SUMMARY: The Gulf of Mexico Fishery Management Council (Council) will convene a public hearing to solicit comments on a Regulatory Amendment to the Reef Fish Fishery Management Plan to Set Commercial and Recreational Management Measures for Grouper.

DATES: The public hearing will held on Wednesday, September 7, 2005. The hearing will begin at 6 p.m. and conclude no later than 10:30 p.m.

ADDRESSES: The public hearing will be held at the Best Western The Westshore Hotel, 1200 North Westshore Boulevard, Tampa, FL 33607; telephone: (813) 282-3636.

Council address: Gulf of Mexico Fishery Management Council, 2203 North Lois Avenue, Suite 1100, Tampa, FL 33607.

FOR FURTHER INFORMATION CONTACT: Mr. Stu Kennedy, Fishery Biologist, Gulf of Mexico Fishery Management Council; telephone: (813) 348-1630.

SUPPLEMENTARY INFORMATION: The Gulf of Mexico Fishery Management Council (Council) will convene a public hearing to solicit comments on a Regulatory Amendment to the Reef Fish Fishery Management Plan to set Commercial and Recreational Management Measures for Grouper.

Proposed measures include setting grouper trip limits for the commercial fishery, reduce recreational red grouper harvest in the Gulf of Mexico, and minimize associated impacts on gag and other groupers.

This Regulatory Amendment will address measures to set commercial trip limits for deep-water and shallow-water grouper to extend the fishing season into December, reduce recreational red grouper harvest in the Gulf of Mexico, and minimize associated impacts on gag and other groupers: Secretarial Amendment 1 to the Reef Fish Fishery Management Plan of the Gulf of Mexico established a rebuilding plan and 6.56 million pounds of gutted weight allowable biological catch for red grouper. During 2003 and 2004, recreational red grouper landings exceeded the 1.25 million pounds gutted weight recreational allocation and during 2004, commercial fishing was closed on November 15 because the commercial quota was reached. In March 2005, the NMFS implemented an emergency rule to set trip limits but they will expire in February 2006 unless continued through this regulatory amendment. In July 2005, the NMFS implemented an interim rule to reduce the 2005 recreational red grouper harvest to levels in Secretarial Amendment 1 but they will expire in January 2006 unless continued through this regulatory amendment. The purpose of this regulatory amendment is to adjust regulatory management measures for the Gulf of Mexico red grouper fishery. New or adjusted management measures are needed if the Council intends to reduce the adverse socioeconomic effects of derby fishing in the commercial fishery, return recreational landings to levels specified in the red grouper rebuilding plan, and prevent or minimize impacts on gag and other groupers resulting from more restrictive recreational red grouper regulations.

A copy of the Amendment and related materials can be obtained by calling the Council office at (813) 348-1630.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Dawn Aring at the Council (see ADDRESSES) by August 29, 2005.

Dated: August 18, 2005.
Emily Menashes,
Acting Director, Office of Sustainable Fisheries, National Marine Fisheries Service.

[FR Doc. E5-4600 Filed 8-22-05; 8:45 am]

BILLING CODE 3510-22-S